DEPARTMENT OF JUSTICE

Notice of Lodging Proposed Consent Decree

In accordance with Departmental Policy, 28 CFR 50.7, notice is hereby given that a proposed Consent Decree in United States v. Corbett Package Co., et al., Civil No. 7:09 cv 00181, was lodged with the United States District Court for the Eastern District of North Carolina on November 10, 2009.

This proposed Consent Decree concerns a complaint filed by the United States against Defendants Corbett Package Company, Corbett Farming Company (d/b/a Corbett Timber Company), and a number of individuals with ownership interests in the Site, pursuant to Sections 301, 402, and 404 of the Clean Water Act, 33 U.S.C. 1311, 1342, and 1344 to obtain injunctive relief and impose civil penalties against the Defendants for violating the Clean Water Act by discharging fill material into waters of the United States. The proposed Consent Decree resolves these allegations by requiring the Defendants to pay a civil penalty and place a restrictive covenant on a 100-acre wetland portion of the Site that would be managed in perpetuity under a negotiated Timber Management Plan. Defendants would also covenant not to take any action on the Site that would alter the existing hydrologic characteristics of its wetlands or that would convert any existing wetlands on the Site to non-wetlands, except in accordance with a permit issued by the Corps under CWA section 404. The Department of Justice will accept written comments relating to this proposed Consent Decree for thirty (30) days from the date of publication of this Notice. Please address comments to Martin F. McDermott, United States Department of Justice, Environment & Natural Resources Division, Environmental Defense Section, P.O. Box 23986, Washington DC 20026-3986 and refer to United States v. Corbett Package Co., et al., Civil No. 7:09 cv 00181, DJ #90-5-1-1-16625.

The proposed Consent Decree may be examined at the Clerk's Office, 574 Terry Sandford Federal Building, 310 New Bern Avenue, Raleigh, North Carolina 27601-1418. In addition, the proposed Consent Decree may be viewed at http://www.usdoj.gov/enrd/Consent_Decrees.html.

Maureen M. Katz,
Assistant Section Chief, Environment & Natural Resources Division.

[FR Doc. E9-27530 Filed 11-16-09; 8:45 am]

BILLING CODE P